DEPARTMENT OF TRANSPORTATION

Research and Special Programs Administration

[Docket No. RSPA-00-7283; Notice No. 00-03]

Hazardous Materials Safety: Meeting for UN Packaging Certification Agencies

AGENCY: Research and Special Programs Administration (RSPA), DOT.

ACTION: Notice of public meeting.

SUMMARY: RSPA is hosting a meeting for its designated UN packaging certification agencies. This meeting provides an opportunity to discuss testing and certification requirements for UN packagings and to disseminate information regarding recent regulatory developments. This meeting is being held in conjunction with an RSPA-sponsored Hazardous Materials Multimodal Training Seminar on June 13 and 14, 2000.

DATES: The meeting will be held on Wednesday, June 14, 2000, from 9 am. to 4:30 pm; however, the meeting may end prior to 4:30 pm, depending upon public interest.

ADDRESSES: The meeting will be held at the Indian Lakes Resort, 250 W. Schick Road, Bloomingdale, IL 60108 (630-529-0200). For information on facilities or services for individuals with disabilities or to request special assistance at the meetings, contact Diane LaValle at the address or phone number listed under FOR FURTHER INFORMATION CONTACT as soon as possible.

FOR FURTHER INFORMATION CONTACT: Christine Whitney, Office of Hazardous Materials Exemptions and Approvals, phone (202) 366-4512 or Diane LaValle, Office of Hazardous Materials Standards, phone (202) 366-8553, RSPA, Department of Transportation, 400 Seventh Street, SW., Washington, DC 20590-0001.

SUPPLEMENTARY INFORMATION: On June 14, 2000, RSPA's Office of Hazardous Materials Safety (“we”) will host a meeting for designated UN packaging certification agencies (i.e., third party labs). This meeting will provide an opportunity for us to exchange information with third party labs concerning testing and certification requirements for UN packagings. We will also provide an update on the latest regulatory developments.

The meeting will be held in the Chicago, Illinois, area, in conjunction with a two-day multi-modal hazardous materials seminar on June 13 and 14. Because of space limitations, attendance at the third party lab meeting will be on a “first come-first served” basis. To confirm attendance, please call Christine Whitney or Diane LaValle at the phone numbers listed under FOR FURTHER INFORMATION CONTACT. Third party labs do not need to confirm attendance. Persons interested in participating in this public meeting need not be registered for the Hazardous Materials Multimodal Training Seminar.

This is an informal meeting intended to produce a dialogue between us and the third party labs concerning performance-oriented package testing and certification. There will be no transcript of the meeting; however, we will prepare minutes of the meeting and written questions and answers developed in response to issues raised. This information will be made available on the HazMat Safety Website (http://hazmat.dot.gov).

Issued in Washington, DC on May 4, 2000.
Robert A. McGuire,
Acting Associate Administrator for Hazardous Materials Safety.

[FR Doc. 00-11580 Filed 5-8-00; 8:45 am]

BILLING CODE 4910-60-P